DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee requires that public notice of these meetings be announced in the Federal Register.

DATES: Tuesday, April 18, 2017; 12:00 p.m.-5:30 p.m.; Wednesday, April 19, 2017; 8:30 a.m.-5:00 p.m.

ADDRESSES: Crystal City Marriott, 1999 Jefferson Davis Highway, Arlington, VA 22202.

FOR FURTHER INFORMATION CONTACT: Christine Chalk, Office of Advanced Scientific Computing Research; SC-21/Germantown Building; U.S. Department of Energy; 1000 Independence Avenue SW., Washington, DC 20585-1290; Telephone (301) 903-7486.

SUPPLEMENTARY INFORMATION:

Purpose of the Committee: To provide advice and guidance on a continuing basis to the Office of Science and to the Department of Energy on scientific priorities within the field of advanced scientific computing research.

Purpose of the Meeting: This meeting is the semi-annual meeting of the Committee.

Tentative Agenda Topics:

• View from Washington

• View from Germantown

• Update on Exascale project activities

• Report from Subcommittee on Laboratory Directed Research and Development

• Update on Charge for Committee of Visitors for Research programs

• Update on Charge for Future Computing Technologies programs

• Technical presentations

• Public Comment (10-minute rule)

The meeting agenda includes an update on the budget, accomplishments and planned activities of the Advanced Scientific Computing Research program; an update on Exascale computing project activities and requirements reviews; updates from the three active subcommittees including a report from the Subcommittee on Laboratory Directed Research and Development; technical presentations on machine learning and early science at the National Energy Research Scientific Computing facility; and there will be an opportunity for comments from the public. The meeting will conclude at 5:00 p.m. on April 19, 2017. Agenda updates and presentations will be posted on the ASCAC Web site prior to the meeting: http://science.energy.gov/ascr/ascac/.

Public Participation: The meeting is open to the public. Individuals and representatives of organizations who would like to offer comments and suggestions may do so during the meeting. Approximately 30 minutes will be reserved for public comments. Time allotted per speaker will depend on the number who wish to speak but will not exceed 10 minutes. Those wishing to speak should submit your request at least five days before the meeting. Those not able to attend the meeting or who have insufficient time to address the committee are invited to send a written statement to Christine Chalk, U.S. Department of Energy, 1000 Independence Avenue SW., Washington, DC 20585, email to Christine.Chalk@science.doe.gov. The Designated Federal Officer is empowered to conduct the meeting in a fashion that will facilitate the orderly conduct of business.

Minutes: The minutes of this meeting will be available within 90 days on the Advanced Scientific Computing Web site at http://science.energy.gov/ascr/ascac/.

Issued in Washington, DC, on March 22, 2017.
LaTanya R. Butler,
Deputy Committee Management Officer.

[FR Doc. 2017-06099 Filed 3-27-17; 8:45 am]

BILLING CODE 6450-01-P